DEPARTMENT OF COMMERCE

National Oceanic and Atmospheric Administration

[I.D. 081903D]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene a public meeting of the Socioeconomic Panel (SEP).

DATES: The SEP meeting will be held beginning at 8:30 a.m. on Wednesday, September 10, 2003, and will conclude at 12 noon on Friday, September 12, 2003.

ADDRESSES: The meeting will be held at the Omni Royal Orleans, 621 St. Louis Street, New Orleans, LA; telephone: 504-529-5333.

Council address: Gulf of Mexico Fishery Management Council, 3018 U.S. Highway 301 North, Suite 1000, Tampa, FL 33619.

FOR FURTHER INFORMATION CONTACT: Dr. Richard Leard, Senior Fishery Biologist, Gulf of Mexico Fishery Management Council; telephone: 813-228-2815.

SUPPLEMENTARY INFORMATION: The SEP will meet to review available social and economic information on yellowtail snapper. The SEP will also review a project proposal, submitted to the Council by researchers from Florida State University, that will attempt to estimate the economic impacts of the various fisheries in the Gulf. In addition, the SEP will hear presentations on the individual fishing quota for the red snapper commercial fishery.

A report will be prepared by the SEP containing their conclusions and recommendations. This report will be presented for review to the Council's Reef Fish Advisory Panel and Standing and Special Reef Fish Scientific and Statistical Committee at meetings to be held in October 2003 in Tampa, FL and to the Council at its meeting on November 9-12, 2003 in Biloxi, MS.

Composing the SEP membership are economists, sociologists, and anthropologists from various universities and state fishery agencies throughout the Gulf. They advise the Council on the social and economic implications of certain fishery management measures.

A copy of the agenda can be obtained by calling 813-228-2815. Although other non-emergency issues not on the agenda may come before the SEP for discussion, in accordance with the Magnuson-Stevens Fishery Conservation and Management Act, those issues may not be the subject of formal action during this meeting. Actions of the SEP will be restricted to those issues specifically identified in the agendas and any issues arising after publication of this notice that require emergency action under Section 305(c) of the Magnuson-Stevens Act, provided the public has been notified of the Council's intent to take action to address the emergency.

Special Accommodations

The meeting is open to the public and is physically accessible to people with disabilities. Requests for sign language interpretation or other auxiliary aids should be directed to the Council office (see ADDRESSES) by September 3, 2003.

Dated: August 20, 2003.
Bruce C. Morehead,
Acting Director, Office of Sustainable Fisheries, National Marine Fisheries Service.

[FR Doc. 03-21720 Filed 8-25-03; 8:45 am]

BILLING CODE 3510-22-S